OFFICE OF PERSONNEL MANAGEMENT

Submission for Review: Claim for Unpaid Compensation for Deceased Civilian Employee, SF 1153, 3206-0234

AGENCY: Office of Personnel Management.

ACTION: 60-Day notice and request for comments.

SUMMARY: In accordance with the Paperwork Reduction Act of 1995 as amended by the Clinger-Cohen Act, this notice announces that the U.S. Office of Personnel Management (OPM) intends to submit to the Office of Management and Budget (OMB) a request for review of an expiring information collection. Standard Form 1153, Claim for Unpaid Compensation for Deceased Civilian Employee, is used to collect information from individuals who have been designated as beneficiaries of the unpaid compensation of a deceased Federal employee who believe that their relationship to the deceased entitles them to receive the unpaid compensation of the deceased Federal employee. OPM needs this information in order to adjudicate the claim and properly assign a deceased Federal employee's unpaid compensation to the appropriate individual(s).

DATES: Comments are encouraged and will be accepted until September 7, 2021. This process is conducted in accordance with 5 CFR 1320.1.

ADDRESSES: Interested persons are invited to submit written comments on the proposed information collection to the Merit System Accountability and Compliance, Office of Personnel Management, 1900 E Street NW, Washington, DC 20415, Attention: Damon Ford or sent via electronic mail to damon.ford@opm.gov.

FOR FURTHER INFORMATION CONTACT: A copy of this ICR, with applicable supporting documentation, may be obtained by contacting the Compensation and Leave Claims Program, Office of Personnel Management, 1900 E Street NW, Washington, DC 20415, Attention: Damon Ford or sent via electronic mail to damon.ford@opm.gov or 202-606-2980.

SUPPLEMENTARY INFORMATION: The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

MSAC adjudicates classification appeals, job-grading appeals, FLSA Claims, compensation and leave Claims, and declination of reasonable offer appeals, as well as the settling of disputed Claims for unpaid compensation due deceased Federal employees. This adjudicative function provides Federal employees administrative due process rights to challenge compensation and related agency decisions without having to seek redress in Federal courts. These decisions are also a critical resource for agency HR offices in making their own classification, pay, and FLSA determinations.

Analysis

Agency: Merit System Accountability and Compliance, Office of Personnel Management.

Title: Standard Form 1153, Claim for Unpaid Compensation of Deceased Civilian Employee.

OMB Number: 3260-0234.

Frequency: Annually.

Affected Public: Federal Employees and Retirees.

Number of Respondents: 3,000.

Estimated Time per Respondent: 15 minutes.

Total Burden Hours: 750 hours.

Office of Personnel Management.
Alexys Stanley,
Regulatory Affairs Analyst.

[FR Doc. 2021-14160 Filed 7-2-21; 8:45 am]

BILLING CODE 6325-58-P